FEDERAL COMMUNICATIONS COMMISSION

47 CFR Part 54

[CC Docket Nos. 01-92 and 94-45; GN Docket No. 09-51; WC Docket Nos. 10-92, 07-135, 05-337, and 03-109; WT Docket No. 10-208; Report No. 2975]

Petition for Reconsideration of Action in Rulemaking Proceeding

AGENCY: Federal Communications Commission.

ACTION: Petition for reconsideration.

SUMMARY: In this document, a Petition for Reconsideration and Clarification (Petition) has been filed in the Commission's Rulemaking proceeding by David Cohen on behalf of United States Telecom Association.

DATES: Oppositions to the Petition must be filed on or before June 3, 2013. Replies to an opposition must be filed on or before June 11, 2013.

ADDRESSES: Federal Communications Commission, 445 12th Street SW., Washington, DC 20554.

FOR FURTHER INFORMATION CONTACT: Alexander Minard, Wireline Competition Bureau, (202) 418-7400 or TTY: (202) 418-0484.

SUPPLEMENTARY INFORMATION: This is a summary of Commission document Report No. 2975, released May 1, 2013. The full text of Report No. 2975 is available for viewing and copying in Room CY-B402, 445 12th Street SW., Washington, DC, 20554, or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Connect America Fund: A National Broadband Plan for Our Future; Establishing Just and Reasonable Rates for Local Exchange Carriers; High-Cost Universal Service Support; Developing a Unified Intercarrier Compensation Regime; Federal-State Joint Board on Universal Service; Lifeline and Link-Up; Universal Service Reform—Mobility Fund, document DA 13-332, published at 78 FR 22198, April 15, 2013, in WC Docket Nos. 10-90, 07-135, 05-337, 03-109, GN Docket No. 09-51, CC Docket Nos. 01-92, 96-45, WT Docket No. 10-208, and published pursuant to 47 CFR 1.429(e). See also 1.4(b)(1) of the Commission's rules.

Number of Petitions Filed: 1.

Federal Communications Commission.
Gloria J. Miles,
Federal Register Liaison, Office of the Secretary, Office of Managing Director.

[FR Doc. 2013-11796 Filed 5-16-13; 8:45 am]

BILLING CODE 6712-01-P